DEPARTMENT OF THE INTERIOR

Fish and Wildlife Service

Notice of Availability

SUMMARY: Pursuant to the Refuge Improvement Act of 1997, the U.S. Fish and Wildlife Service has published the final Fort Niobrara National Wildlife Refuge Comprehensive Conservation Plan and Summary and the final Valentine National Wildlife Refuge Comprehensive Conservation Plan and Summary. These Plans and Summaries describe ho the FWS will mange the Fort Niobrara and Valentine NWRs for the next 10-15 years.

ADDRESSES: A Summary of the Plans or the complete Plans may be obtained by writing to U.S. Fish and Wildlife Service, Ft. Niobrara/Valentine NWR, Hidden Timber Route, HC 14 Box 67, Valentine, NE 69201. The complete Plan may also be downloaded at the following internet site: http://www.r6.fws.gov/larp/.

FOR FURTHER INFORMATION CONTACT: Bernardo Garza, U.S. Fish and Wildlife Service, P.O. Box 25486, DFC, Denver, CO 80225, telephone 303/236-8145 extension 672; fax 303/236-4792.

SUPPLEMENTARY INFORMATION: The Fort Niobrara NWR Comprehensive Conservation Plan describes the reasons and the process for the removal of longhorn cattle from the Refuge; restructured use of the Wild and Scenic portion of the Niobrara River through the Fort Niobrara Wilderness Area through a participatory process; the expansion of prairie dog colonies in the Refuge; and overall less forage removal by large animal use with more residual cover for native birds, which is the primary mission of the Refuge.

The Valentine NWR Plan describes the reintroduction of bison to a portion of the proposed wilderness area through a 10-year phased-in process and relocation of the station headquarters. Existing fishing, hunting, wildlife observation, and photography opportunities will remain in place on Valentine NWR.

Dated: February 18, 2000.
Ralph O. Morgenweck,
Regional Director, Denver, Colorado.

[FR Doc. 00-4723 Filed 2-28-00; 8:45 am]

BILLING CODE 4310—55—M